SECURITIES AND EXCHANGE COMMISSION

[Release No. 34-67476; File No. SR-BYX-2012-014]

Self-Regulatory Organizations; BATS Y-Exchange, Inc.; Notice of Filing and Immediate Effectiveness of Proposed Rule Change by BATS Y-Exchange, Inc. To Amend BYX Rules Related to Telemarketing

July 20, 2012.

Pursuant to Section 19(b)(1) of the Securities Exchange Act of 1934 (the “Act”),¹ and Rule 19b-4 thereunder,² notice is hereby given that on July 6, 2012, BATS Y-Exchange, Inc. (the “Exchange” or “BYX”) filed with the Securities and Exchange Commission (“Commission”) the proposed rule change as described in Items I and II below, which Items have been prepared by the Exchange. The Exchange has designated this proposal as a “non-controversial” proposed rule change pursuant to Section 19(b)(3)(A) of the Act ³ and Rule 19b-4(f)(6)(iii) thereunder,⁴ which renders it effective upon filing with the Commission. The Commission is publishing this notice to solicit comments on the proposed rule change from interested persons.

¹ 15 U.S.C. 78s(b)(1).

² 17 CFR 240.19b-4.

³ 15 U.S.C. 78s(b)(3)(A).

⁴ 17 CFR 240.19b-4(f)(6)(iii).

I. Self-Regulatory Organization's Statement of the Terms of Substance of the Proposed Rule Change

The Exchange proposes to adopt BYX Rule 3.23 “Telemarketing”, to its rulebook to codify provisions that are substantially similar to Federal Trade Commission (“FTC”) rules that prohibit deceptive and other abusive telemarketing acts or practices.⁵ The text of the proposed rule change is available at the Exchange's Web site at http://www.batstrading.com, at the principal office of the Exchange, on the Commission's Web site at http://www.sec.gov, and at the Commission's Public Reference Room.

⁵ The proposed rule change is substantially similar in all material respects to Financial Industry Regulatory Authority, Inc. (“FINRA”) Rule 3230 (Telemarketing), which the Commission recently approved. See Securities Exchange Act Release No. 34-66279 (January 30, 2012), 77 FR 5611 (February 3, 2012) (SR-FINRA-2011-059) (approval order of proposed rule change to adopt telemarketing rule).

II. Self-Regulatory Organization's Statement of the Purpose of, and Statutory Basis for, the Proposed Rule Change

In its filing with the Commission, the Exchange included statements concerning the purpose of and basis for the proposed rule change and discussed any comments it received on the proposed rule change. The text of these statements may be examined at the places specified in Item IV below. The Exchange has prepared summaries, set forth in Sections A, B, and C below, of the most significant parts of such statements.

A. Self-Regulatory Organization's Statement of the Purpose of, and Statutory Basis for, the Proposed Rule Change

1. Purpose

The Exchange proposes to add Rule 3.23, “Telemarketing”, to its rulebook to codify provisions that are substantially similar to FTC rules that prohibit deceptive and other abusive telemarketing acts or practices. Rule 3.23 will require Members to, among other things, maintain do-not-call lists, limit the hours of telephone solicitations, and not use deceptive and abusive acts and practices in connection with telemarketing. The Commission directed BYX to enact these telemarketing rules in accordance with the Telemarketing Consumer Fraud and Abuse Prevention Act of 1994 (“Prevention Act”).⁶ The Prevention Act requires the Commission to promulgate, or direct any national securities exchange or registered securities association to promulgate, rules substantially similar to the FTC rules ⁷ to prohibit deceptive and other abusive telemarketing acts or practices, unless the Commission determines either that the rules are not necessary or appropriate for the protection of investors or the maintenance of orderly markets, or that existing federal securities laws or Commission rules already provide for such protection.⁸

⁶ 15 U.S.C. 6101-6108.

⁷ 16 CFR 310.1-.9. The FTC adopted these rules under the Prevention Act in 1995. See Federal Trade Commission, Telemarketing Sales Rule, 60 FR 43842 (Aug. 23, 1995).

⁸ 15 U.S.C. 6102.

In 1997, the Commission determined that telemarketing rules promulgated and expected to be promulgated by self-regulatory organizations, together with the other rules of the self- regulatory organizations, the federal securities laws and the Commission's rules thereunder, satisfied the requirements of the Prevention Act because, at the time, the applicable provisions of those laws and rules were substantially similar to the FTC's telemarketing rules.⁹ Since 1997, the FTC has amended its telemarketing rules in light of changing telemarketing practices and technology.¹⁰

⁹ See Telemarketing and Consumer Fraud and Abuse Prevention Act; Determination that No Additional Rulemaking Required, Securities Exchange Act Release No. 38480 (Apr. 7, 1997), 62 FR 18666 (Apr. 16, 1996). The Commission also determined that some provisions of the FTC's telemarketing rules related to areas already extensively regulated by existing securities laws or activities not applicable to securities transactions See id.

¹⁰ See, e.g., Federal Trade Commission, Telemarketing Sales Rule, 73 FR 51164 (Aug. 29, 2008) (amendments to the Telemarketing Sales Rule relating to prerecorded messages and call abandonments); and Federal Trade Commission, Telemarketing Sales Rule, 68 FR 4580 (Jan. 29, 2003) (amendments to the Telemarketing Sales Rule establishing requirements for sellers and telemarketers to participate in the national do-not-call registry).

As mentioned above, the Prevention Act requires the Commission to promulgate, or direct any national securities exchange or registered securities association to promulgate, rules substantially similar to the FTC rules to prohibit deceptive and other abusive telemarketing acts or practices.¹¹ In May 2011, Commission staff directed BYX to conduct a review of its telemarketing rule and propose rule amendments that provide protections that are at least as strong as those provided by the FTC's telemarketing rules.¹² Commission staff had concerns “that the [Exchange] rules overall have not kept pace with the FTC's rules, and thus may no longer meet the standards of the [Prevention] Act.” ¹³

¹¹ See supra note 7.

¹² See Letter from Robert W. Cook, Director, Division of Trading and Markets, Securities and Exchange Commission, to Joe Ratterman, President and Chief Executive Officer, BATS Global Markets, Inc., dated May 12, 2011.

¹³ Id.

The proposed rule change, as directed by the Commission staff, adopts provisions in Rule 3.23 that are substantially similar to the FTC's current rules that prohibit deceptive and other abusive telemarketing acts or practices as described below.¹⁴

¹⁴ The proposed rule change is also substantially similar to FINRA Rule 3230. See supra note 3.

Telemarketing Restrictions

The proposed rule change codifies the telemarketing restrictions in Rule 3.23(a) to provide that no Member or associated person of a Member ¹⁵ may make an outbound telephone call ¹⁶ to:

¹⁵ An “associated person of a Member” is any partner, officer, director, or branch manager of a Member (or person occupying a similar status or performing similar functions), any person directly or indirectly controlling, controlled by, or under common control with such Member, or any employee of such Member, except that any person associated with a Member whose functions are solely clerical or ministerial shall not be included in the meaning of such term. See Rule 1.5(q).

¹⁶ An “outbound telephone call” is a telephone call initiated by a telemarketer to induce the purchase of goods or services or to solicit a charitable contribution from a donor. A “telemarketer” is any person who, in connection with telemarketing, initiates or receives telephone calls to or from a customer or donor. A “customer” is any person who is or may be required to pay for goods or services through telemarketing. A “donor” means any person solicited to make a charitable contribution. A “person” is any individual, group, unincorporated association, limited or general partnership, corporation, or other business entity. “Telemarketing” means consisting of or relating to a plan, program, or campaign involving at least one outbound telephone call, for example cold-calling. The term does not include the solicitation of sales through the mailing of written marketing materials, when the person making the solicitation does not solicit customers by telephone but only receives calls initiated by customers in response to the marketing materials and during those calls takes orders only without further solicitation. For purposes of the previous sentence, the term “further solicitation” does not include providing the customer with information about, or attempting to sell, anything promoted in the same marketing materials that prompted the customer's call. A “charitable contribution” means any donation or gift of money or any other thing of value, for example a transfer to a pooled income fund. See proposed Rule 3.23(n)(3), (11), (16), (17), (20), and (21); see also FINRA Rule 3230(m)(11), (14), (16), (17), and (20); and 16 CFR 310.2(f), (l), (n), (v), (w), (cc), and (dd).

(1) Any person's residence at any time other than between 8 a.m. and 9 p.m. local time at the called person's locations;

(2) Any person that previously has stated that he or she does not wish to receive any outbound telephone calls made by or on behalf of the Member; or

(3) Any person who has registered his or her telephone number on the FTC's national do-not-call registry.

The proposed rule change is substantially similar to the FTC's provisions regarding abusive telemarketing acts or practices.¹⁷ The FTC provided a discussion of the provision when it was adopted pursuant to the Prevention Act.¹⁸

¹⁷ See 16 CFR 310.4(b)(1)(iii)(A) and (B) and (c); see also FINRA Rule 3230(a). See proposed Rule 3.23(n)(16) and (21) and supra note 15.

¹⁸ See Federal Trade Commission, Telemarketing Sales Rule, 68 FR 4580 (Jan. 29, 2003) at 4628; and Federal Trade Commission, Telemarketing Sales Rule, 60 FR 43842 (Aug. 23, 1995) at 43855.

Caller Disclosures

The proposed rule change codifies in Rule 3.23(b) that no Member or associated person of a Member shall make an outbound telephone call to any person without disclosing truthfully, promptly and in a clear and conspicuous manner to the called person the following information: (i) The identity of the caller and the Member; (ii) the telephone number or address at which the caller may be contacted; and (iii) that the purpose of the call is to solicit the purchase of securities or related services. The proposed rule change also provides that the telephone number that a caller provides to a person as the number at which the caller may be contacted may not be a 900 number or any other number for which charges exceed local or long-distance transmission charges.¹⁹

¹⁹ See proposed Rule 3.23(b); see also FINRA Rule 3230(d)(4). The proposed rule change is substantially similar to the Federal Communications Commission's regulations regarding call disclosures. See 47 CFR 64.1200(d)(4).

Exceptions

The proposed rule change adds Rule 3.23(c) to provide that the prohibition in paragraph (a)(1) ²⁰ does not apply to outbound telephone calls by a Member or an associated person of a Member if:

²⁰ The Exchange believes that even if a Member satisfies the exception in paragraph (c), the Member should still make the caller disclosures required by paragraph (b) to the called person to ensure that the called person receives sufficient information regarding the purpose of the call.

(1) The Member has received that person's express prior written consent;

(2) The Member has an established business relationship ²¹ with the person; or

²¹ An “established business relationship” is a relationship between a Member and a person if (a) the person has made a financial transaction or has a security position, a money balance, or account activity with the Member or at a clearing firm that provides clearing services to the Member within the 18 months immediately preceding the date of an outbound telephone call; (b) the Member is the broker-dealer of record for an account of the person within the 18 months immediately preceding the date of an outbound telephone call; or (c) the person has contacted the Member to inquire about a product or service offered by the Member within the three months immediately preceding the date of an outbound telephone call. A person's established business relationship with a Member does not extend to the Member's affiliated entities unless the person would reasonably expect them to be included. Similarly, a person's established business relationship with a Member's affiliate does not extend to the Member unless the person would reasonably expect the Member to be included. The term “account activity” includes, but is not limited to, purchases, sales, interest credits or debits, charges or credits, dividend payments, transfer activity, securities receipts or deliveries, and/or journal entries relating to securities or funds in the possession or control of the Member. The term “broker- dealer of record” refers to the broker or dealer identified on a customer's account application for accounts held directly at a mutual fund or variable insurance product issuer. See proposed Rule 3.23(n)(1), (4), and (12); see also 16 CFR 310.2(o) and FINRA Rule 3230(m)(1), (4), and (12).

(3) The person is a broker or dealer.

Member's Firm-Specific Do-Not-Call List

The proposed rule change adds Rule 3.23(d) to provide that each Member must make and maintain a centralized list of persons who have informed the Member or any of its associated persons that they do not wish to receive outbound telephone calls. The proposed term “outbound telephone call” is defined substantially similar to the FTC's definition of that term.²²

²² See 16 CFR 310.4(b)(1)(iii)(A) and supra note 15; see also FINRA Rule 3230(a)(2).

Proposed Rule 3.23(d)(2) adopts procedures that Members must institute to comply with Rule 3.23(a) and (b) prior to engaging in telemarketing. These procedures must meet the following minimum standards:

(1) Member must have a written policy for maintaining their firm-specific do-not-call lists.

(2) Personnel engaged in any aspect of telemarketing must be informed and trained in the existence and use of the Member's firm-specific do-not-call list.

(3) If a Member receives a request from a person not to receive calls from that Member, the Member must record the request and place the person's name, if provided, and telephone number on its firm-specific do-not-call list at the time the request is made.²³

²³ Members must honor a person's do-not-call request within a reasonable time from the date the request is made, which may not exceed 30 days from the date of the request. If these requests are recorded or maintained by a party other than the Member on whose behalf the outbound telephone call is made, the Member on whose behalf the outbound telephone call is made will still be liable for any failures to honor the do-not-call request.

(4) Members or associated persons of Members making an outbound telephone call must make the caller disclosures set forth in Rule 3.23(b).

(5) In the absence of a specific request by the person to the contrary, a person's do- not-call request will apply to the Member making the call, and will not apply to affiliated entities unless the consumer reasonably would expect them to be included given the identification of the call and the product being advertised.

(6) A Member making outbound telephone calls must maintain a record of a person's request not to receive further calls.

Inclusion of this requirement to adopt these procedures will not create any new obligations on Members, as they are already subject to identical provisions under Federal Communications Commission (“FCC”) telemarketing regulations.²⁴

²⁴ See 47 CFR 64.1200(d); see also FINRA Rule 3230(d).

Do-Not-Call Safe Harbors

Proposed Rule 3.23(e) provides for certain exceptions to the telemarketing restriction set forth in proposed Rule 3.23(a)(3), which prohibits outbound telephone calls to persons on the FTC's national do-not-call registry. First, proposed Rule 3.23(e)(1) provides that a Member or associated person of a Member making outbound telephone calls will not be liable for violating proposed Rule 3.23(a)(3) if:

(1) The Member has an established business relationship with the called person; however, a person's request to be placed on the Member's firm-specific do-not- call list terminates the established business relationship exception to the national do-not-call registry provision for that Member even if the person continues to do business with the Member;

(2) The Member has obtained the person's prior express written consent, which must be clearly evidenced by a signed, written agreement (which may be obtained electronically under the E-Sign Act ²⁵) between the person and the Member that states that the person agrees to be contacted by the Member and includes the telephone number to which the calls may be placed; or

²⁵ 15 U.S.C. 7001 et seq.

(3) The Member or associated person of a Member making the call has a personal relationship ²⁶ with the called person.

²⁶ The term “personal relationship” means any family member, friend, or acquaintance of the person making an outbound telephone call. See proposed Rule 3.23(n)(18); see also FINRA Rule 3230(m)(18).

The proposed rule change is substantially similar to the FTC's provision regarding an exception to the prohibition on making outbound telephone calls to persons on the FTC's do-not- call registry.²⁷ The FTC provided a discussion of the provision when it was adopted pursuant to the Prevention Act.²⁸

²⁷ See 16 CFR 310.4(b)(1)(iii)(B); see also FINRA Rule 3230(b).

²⁸ See Federal Trade Commission, Telemarketing Sales Rule, 68 FR 4580 (Jan. 29, 2003) at 4628; Federal Trade Commission, Telemarketing Sales Rule, 60 FR 43842 (Aug. 23, 1995) at 43854.

Second, proposed Rule 3.23(e)(2) provides that a Member or associated person of a Member making outbound telephone calls will not be liable for violating proposed Rule 3.23(a)(3) if the Member or associated person of a Member demonstrates that the violation is the result of an error and that as part of the Member's routine business practice:

(1) The Member has established and implemented written procedures to comply with Rule 3.23(a) and (b);

(2) The Member has trained its personnel, and any entity assisting in its compliance, in the procedures established pursuant to the preceding clause;

(3) The Member has maintained and recorded a list of telephone numbers that it may not contact in compliance with Rule 3.23(d); and

(4) The Member uses a process to prevent outbound telephone calls to any telephone number on the Member's firm-specific do-not-call list or the national do-not-call registry, employing a version of the national do-not-call registry obtained from the FTC no more than 31 days prior to the date any call is made, and maintains records documenting this process.

The proposed rule change is substantially similar to the FTC's safe harbor to the prohibition on making outbound telephone calls to persons on a firm-specific do-not-call list or on the FTC's national do-not-call registry.²⁹ The FTC provided a discussion of the provision when it was adopted pursuant to the Prevention Act.³⁰

²⁹ See 16 CFR 310.4(b)(3); see also FINRA Rule 3230(c).

³⁰ See Federal Trade Commission, Telemarketing Sales Rule, 68 FR 4580 (Jan. 29, 2003) at 4628; and Federal Trade Commission, Telemarketing Sales Rule, 60 FR 43842 (Aug. 23, 1995) at 43855.

Wireless Communications

Proposed Rule 3.23(f) clarifies that the provisions set forth in Rule 3.23 are applicable to Members and associated persons of Members making outbound telephone calls to wireless telephone numbers.³¹

³¹ See also FINRA Rule 3230(e).

Outsourcing Telemarketing

Proposed Rule 3.23(g) states that if a Member uses another entity to perform telemarketing services on its behalf, the Member remains responsible for ensuring compliance with Rule 3.23. The proposed rule change also provides that an entity or person to which a Member outsources its telemarketing services must be appropriately registered or licensed, where required.³²

³² See also FINRA Rule 3230(f).

Billing Information

Proposed Rule 3.23(h) provides that, for any telemarketing transaction, no Member or associated person of a Member may submit billing information ³³ for payment without the express informed consent of the customer. Proposed Rule 3.23(h) requires that each Member or associated person of a Member must obtain the express informed consent of the person to be charged and to be charged using the identified account.

³³ The term “billing information” means any data that enables any person to access a customer's or donor's account, such as a credit or debit card number, a brokerage, checking, or savings account number, or a mortgage loan account number. See proposed Rule 3.23(n)(3).

If the telemarketing transaction involves pre-acquired account information ³⁴ and a free-to-pay conversion ³⁵ feature, the Member or associated person of a Member must:

³⁴ The term “preacquired account information” means any information that enables a Member or associated person of a Member to cause a charge to be placed against a customer's or donor's account without obtaining the account number directly from the customer or donor during the telemarketing transaction pursuant to which the account will be charged. See proposed Rule 3.23(n)(19).

³⁵ The term “free-to-pay conversion” means, in an offer or agreement to sell or provide any goods or services, a provision under which a customer receives a product or service for free for an initial period and will incur an obligation to pay for the product or service if he or she does not take affirmative action to cancel before the end of that period. See proposed Rule 3.23(n)(13).

(1) Obtain from the customer, at a minimum, the last four digits of the account number to be charged;

(2) Obtain from the customer an express agreement to be charged and to be charged using the identified account number; and

(3) Make and maintain an audio recording of the entire telemarketing transaction.

For any other telemarketing transaction involving preacquired account information, the Member or associated person of a Member must:

(1) Identify the account to be charged with sufficient specificity for the customer to understand what account will be charged; and

(2) Obtain from the customer an express agreement to be charged and to be charged using the identified account number.

The proposed rule change is substantially similar to the FTC's provision regarding the submission of billing information.³⁶ The FTC provided a discussion of the provision when it was adopted pursuant to the Prevention Act.³⁷

³⁶ See 16 CFR 310.4(a)(7); see also FINRA Rule 3230(i).

³⁷ See Federal Trade Commission, Telemarketing Sales Rule, 68 FR 4580 (Jan. 29, 2003) at 4616.

Caller Identification Information

Proposed Rule 3.23(i) provides that Members that engage in telemarketing must transmit caller identification information ³⁸ and are explicitly prohibited from blocking caller identification information. The telephone number provided must permit any person to make a do-not-call request during normal business hours. These provisions are similar to the caller identification provision in the FTC rules.³⁹ Inclusion of these caller identification provisions in this proposed rule change will not create any new obligations on Members, as they are already subject to identical provisions under FCC telemarketing regulations.⁴⁰

³⁸ Caller identification information includes the telephone number and, when made available by the Member's telephone carrier, the name of the Member.

³⁹ See 16 CFR 310.4(a)(8); see also FINRA Rule 3230(g).

⁴⁰ See 47 CFR 64.1601(e).

Unencrypted Consumer Account Numbers

Proposed Rule 3.23(j) prohibits a Member or associated person of a Member from disclosing or receiving, for consideration, unencrypted consumer account numbers for use in telemarketing. The proposed rule change is substantially similar to the FTC's provision regarding unencrypted consumer account numbers.⁴¹ The FTC provided a discussion of the provision when it was adopted pursuant to the Prevention Act.⁴² Additionally, the proposed rule change defines “unencrypted” as not only complete, visible account numbers, whether provided in lists or singly, but also encrypted information with a key to its decryption. The proposed definition is substantially similar to the view taken by the FTC.⁴³

⁴¹ See 16 CFR 310.4(a)(6); see also FINRA Rule 3230(h).

⁴² See Federal Trade Commission, Telemarketing Sales Rule, 68 FR 4580 (Jan. 29, 2003) at 4615.

⁴³ See id. at 4616.

Abandoned Calls

Proposed Rule 3.23(k) prohibits a Member or associated person of a Member from abandoning ⁴⁴ any outbound telephone call. The abandoned calls prohibition is subject to a “safe harbor” under proposed Rule 3.23(k)(2) that requires a Member or associated person of a Member:

⁴⁴ An outbound telephone call is “abandoned” if the called person answers it and the call is not connected to a Member or associated person of a Member within two seconds of the called person's completed greeting.

(1) To employ technology that ensures abandonment of no more than three percent of all calls answered by a person, measured over the duration of a single calling campaign, if less than 30 days, or separately over each successive 30-day period or portion thereof that the campaign continues;

(2) For each outbound telephone call placed, to allow the telephone to ring for at least 15 seconds or four rings before disconnecting an unanswered call;

(3) Whenever a Member or associated person of a Member is not available to speak with the person answering the outbound telephone call within two seconds after the person's completed greeting, promptly to play a prerecorded message stating the name and telephone number of the Member or associated person of a Member on whose behalf the call was placed; and

(4) To maintain records documenting compliance with the “safe harbor.”

The proposed rule change is substantially similar to the FTC's provisions regarding abandoned calls.⁴⁵ The FTC provided a discussion of the provisions when they are adopted pursuant to the Prevention Act.⁴⁶

⁴⁵ See 16 CFR 310.4(b)(1)(iv) and (b)(4); see also FINRA Rule 3230(j).

⁴⁶ See Federal Trade Commission, Telemarketing Sales Rule, 68 FR 4580 (Jan. 29, 2003) at 4641.

Prerecorded Messages

Proposed Rule 3.23(l) prohibits a Member or associated person of a Member from initiating any outbound telephone call that delivers a prerecorded message without a person's express written agreement ⁴⁷ to receive such calls. The proposed rule change also requires that all prerecorded outbound telephone calls provide specified opt-out mechanisms so that a person can opt out of future calls. The prohibition does not apply to a prerecorded message permitted for compliance with the “safe harbor” for abandoned calls under proposed Rule 3.23(k)(2). The proposed rule change is substantially similar to the FTC's provisions regarding prerecorded messages.⁴⁸ The FTC provided a discussion of the provisions when they were adopted pursuant to the Prevention Act.⁴⁹

⁴⁷ The express written agreement must: (a) Have been obtained only after a clear and conspicuous disclosure that the purpose of the agreement is to authorize the Member to place prerecorded calls to such person; (b) have been obtained without requiring, directly or indirectly, that the agreement be executed as a condition of purchasing any good or service; (c) evidence the willingness of the called person to receive calls that deliver prerecorded messages by or on behalf of the Member; and (d) include the person's telephone number and signature (which may be obtained electronically under the E-Sign Act).

⁴⁸ See 16 CFR 310.4(b)(1)(v); see also FINRA Rule 3230(k).

⁴⁹ See Federal Trade Commission, Telemarketing Sales Rule, 73 FR 51164 (Aug. 29, 2008) at 51165.

Credit Card Laundering

Proposed Rule 3.23(m) prohibits credit card laundering, the practice of depositing into the credit card system ⁵⁰ a sales draft that is not the result of a credit card transaction between the cardholder ⁵¹ and the Member. Except as expressly permitted, the proposed rule change prohibits a Member or associated person of a Member from:

⁵⁰ The term “credit card system” means any method or procedure used to process credit card transactions involving credit cards issued or licensed by the operator of that system. The term “credit card” means any card, plate, coupon book, or other credit device existing for the purpose of obtaining money, property, labor, or services on credit. The term “credit” means the right granted by a creditor to a debtor to defer payment of debt or to incur debt and defer its payment. See proposed Rule 3.23(n)(7), (8), and (10).

⁵¹ The term “cardholder” means a person to whom a credit card is issued or who is authorized to use a credit card on behalf of or in addition to the person to whom the credit card is issued. See proposed Rule 3.23(n)(6).

(1) Presenting to or depositing into the credit card system for payment, a credit card sales draft ⁵² generated by a telemarketing transaction that is not the result of a telemarketing credit card transaction between the cardholder and the Member;

⁵² The term “credit card sales draft” means any record or evidence of a credit card transaction. See proposed Rule 3.23(n)(9).

(2) Employing, soliciting, or otherwise causing a merchant,⁵³ or an employee, representative or agent of the merchant to present to or to deposit into the credit card system for payment, a credit card sales draft generated by a telemarketing transaction that is not the result of a telemarketing credit card transaction between the cardholder and the Member; or

⁵³ The term “merchant” means a person who is authorized under a written contract with an acquirer to honor or accept credit cards, or to transmit or process for payment credit card payments, for the purchase of goods or services or a charitable contribution. The term “acquirer” means a business organization, financial institution, or an agent of a business organization or financial institution that has authority from an organization that operates or licenses a credit card system to authorize merchants to accept, transmit, or process payment by credit card through the credit card system for money, goods or services, or anything else of value. See proposed Rule 3.23(n)(2) and (14).

(3) Obtaining access to the credit card system through the use of a business relationship or an affiliation with a merchant, when such access is not authorized by the merchant agreement ⁵⁴ or the applicable credit card system.

⁵⁴ The term “merchant agreement” means a written contract between a merchant and an acquirer to honor or accept credit cards, or to transmit or process for payment credit card payments, for the purchase of goods or services or a charitable contribution. See proposed Rule 3.23(n)(15).

The proposed rule change is substantially similar to the FTC's provision regarding credit card laundering.⁵⁵ The FTC provided a discussion of the provisions when they were adopted pursuant to the Prevention Act.⁵⁶

⁵⁵ See 16 CFR 310.3(c); see also FINRA Rule 3230(l).

⁵⁶ See Federal Trade Commission, Telemarketing Sales Rule, 60 FR 43842 (Aug. 23, 1995) at 43852.

Definitions

Proposed Rule 3.23(n) adopts the following definitions, which are substantially similar to the FTC's definitions of these terms: “acquirer,” “billing information,” “caller identification service,” “cardholder,” “charitable contribution,” “credit,” “credit card,” “credit card sales draft,” “credit card system,” “customer,” “donor,” “established business relationship,” “free-to-pay conversion,” “merchant,” “merchant agreement,” “outbound telephone call,” “person,” “pre-acquired account information,” “telemarketer,” and “telemarketing.” ⁵⁷ The FTC provided a discussion of each definition when they were adopted pursuant to the Prevention Act.⁵⁸

⁵⁷ See proposed Rule 3.23(n)(2), (3), (5), (6), (7), (8), (9), (10), (11), (12), (13), (14), (15), (16), (17), (19), (20), and (21); and 16 CFR 310.2(a), (c), (d), (e), (f), (h), (i), (j), (k), (l), (n), (o), (p), (s), (t), (v), (w), (x), (cc), and (dd); see also FINRA Rule 3230(m)(2), (3), (5), (6), (7), (8), (9), (10), (11), (12), (13), (14), (15), (16), (17), (19), and (20). The proposed rule change also adopts definitions of “account activity,” “broker-dealer of record,” and “personal relationship” that are substantially similar FINRA's definitions of these terms. See proposed Rule 3.23(n)(1), (4), and (18) and FINRA Rule 3230(m)(1), (4), and (18); see also 47 CFR 64.1200(f)(14) (FCC's definition of “personal relationship”).

⁵⁸ See Federal Trade Commission, Telemarketing Sales Rule, 60 FR 43842 (Aug. 23, 1995) at 43843; and Federal Trade Commission, Telemarketing Sales Rule, 68 FR 4580 (Jan. 29, 2003) at 4587.

State and Federal Laws

Proposed Rule 3.23, Interpretation and Policy .01 ⁵⁹ reminds Members and associated persons of Members that engage in telemarketing that they also are subject to the requirements of relevant state and federal laws and rules, including the Prevention Act, the Telephone Consumer Protection Act of 1991,⁶⁰ and the rules of the FCC relating to telemarketing practices and the rights of telephone consumers.⁶¹

⁵⁹ See also FINRA Rule 3230, Supplementary Material .01, Compliance with Other Requirements.

⁶⁰ See 47 U.S.C. 227.

⁶¹ See 47 CFR 64.1200.

Announcement in Regulatory Circular

The Exchange will announce the implementation date of the proposed rule change in a Regulatory Notice to be published no later than 90 days following the effective date. The implementation date will be no later than 180 days following the effective date.

2. Statutory Basis

The Exchange believes that the proposed rule change is consistent with the Act and the rules and regulations thereunder applicable to the Exchange and, in particular, the requirements of Section 6(b) of the Act.⁶² Specifically, the Exchange believes the proposed rule change is consistent with the Section 6(b)(5) ⁶³ requirements that the rules of an exchange be designed to promote just and equitable principles of trade, to prevent fraudulent and manipulative acts, to remove impediments to and to perfect the mechanism for a free and open market and a national market system, and, in general, to protect investors and the public interest. In particular, the proposed rule change will prevent fraudulent and manipulative acts and protect investors and the public interest by continuing to prohibit Members from engaging in deceptive and other abusive telemarketing acts or practices. Additionally, the proposed rule change removes impediments to and perfects the mechanism for a free and open market and a national market system, because it provides consistency among telemarketing rules of national securities exchanges and FINRA, therefore making it easier for investors to comply with these rules.

⁶² 15 U.S.C. 78f(b).

⁶³ 15 U.S.C. 78f(b)(5).

B. Self-Regulatory Organization's Statement on Burden on Competition

The Exchange does not believe that the proposed rule change imposes any burden on competition.

C. Self-Regulatory Organization's Statement on Comments on the Proposed Rule Change Received From Members, Participants or Others

The Exchange has neither solicited nor received written comments on the proposed rule change.

III. Date of Effectiveness of the Proposed Rule Changes and Timing for Commission Action

Because the foregoing proposed rule change does not: (i) Significantly affect the protection of investors or the public interest; (ii) impose any significant burden on competition; and (iii) become operative for 30 days from the date on which it was filed, or such shorter time as the Commission may designate, it has become effective pursuant to Section 19(b)(3)(A) of the Act ⁶⁴ and Rule 19b-4(f)(6)(iii) thereunder.⁶⁵

⁶⁴ 15 U.S.C. 78s(b)(3)(A).

⁶⁵ 17 CFR 240.19b-4(f)(6).

For the foregoing reasons, this rule filing qualifies as a “non-controversial” rule change under Rule 19b-4(f)(6), which renders the proposed rule change effective upon filing with the Commission. The Exchange has requested that the Commission waive the 30-day operative delay period after which a proposed rule change under Rule 19b-4(f)(6) becomes effective. The Commission believes that waiving the 30-day operative delay is consistent with the protection of investors and the public interest because such waiver will afford Exchange members the benefit of the proposal—the prohibition of deceptive and other abusive telemarketing acts or practices—without unnecessary delay. Such waiver will also allow the Exchange to comply with the Commission's directive and implement uniform telemarketing rules across self-regulatory organizations, creating consistency among these rules for investors, as soon as possible. For these reasons, the Commission designates the proposed rule change as operative under upon filing.⁶⁶

⁶⁶ For purposes only of waiving the 30-day operative delay, the Commission has considered the proposed rule's impact on efficiency, competition, and capital formation. See 15 U.S.C. 78c(f).

At any time within 60 days of the filing of the proposed rule change, the Commission summarily may temporarily suspend such rule change if it appears to the Commission that such action is necessary or appropriate in the public interest, for the protection of investors, or otherwise in furtherance of the purposes of the Act.

IV. Solicitation of Comments

Interested persons are invited to submit written data, views and arguments concerning the foregoing, including whether the proposal is consistent with the Act. Comments may be submitted by any of the following methods:

Electronic Comments

• Use the Commission's Internet comment form (http://www.sec.gov/rules/sro.shtml); or

• Send an email to rule-comments@sec.gov. Please include File No. SR-BYX-2012-014 on the subject line.

Paper Comments

• Send paper comments in triplicate to Elizabeth M. Murphy, Secretary, Securities and Exchange Commission, 100 F Street NE., Washington, DC 20549-1090.

All submissions should refer to File No. SR-BYX-2012-014. This file number should be included on the subject line if email is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street NE., Washington, DC 20549, on official business days between the hours of 10:00 a.m. and 3:00 p.m. Copies of such filing also will be available for inspection and copying at the principal office of the Exchange. All comments received will be posted without change; the Commission does not edit personal identifying information from submissions. You should submit only information that you wish to make available publicly. All submissions should refer to File No. SR-BYX-2012-014 and should be submitted on or before August 16, 2012.

For the Commission, by the Division of Trading and Markets, pursuant to delegated authority.⁶⁷
⁶⁷ 17 CFR 200.30-3(a)(12).
Kevin M. O'Neill,
Deputy Secretary.

[FR Doc. 2012-18217 Filed 7-25-12; 8:45 am]

BILLING CODE 8011-01-P